ENVIRONMENTAL PROTECTION AGENCY

[EPA R09-2021-08; FRL-10024-41-Region 9]

Notice of Proposed CERCLA Section 122(h)(1) Settlement for Cost Recovery of Past Response Costs at the Santa Clara Waste Water Treatment Plant Emergency Removal Site, Santa Paula, California

AGENCY: Environmental Protection Agency (EPA).

ACTION: Notice of proposed settlement; request for public comment.

SUMMARY: In accordance with the Comprehensive Environmental Response, Compensation and Liability Act of 1980, as amended (“CERCLA”), notice is hereby given that the Environmental Protection Agency (“EPA”), has entered into a proposed settlement, embodied in a CERCLA Section 122(h)(1) Settlement for Cost Recovery (“Settlement Agreement”), with Santa Clara Waste Water Company (“SCWW”). Under the Settlement Agreement, SCWW agrees to pay some of EPA's past response costs at the Santa Clara Waste Water Treatment Plant Emergency Removal Site, Santa Paula, California (“Site”) in Santa Paula, California.

DATES: Comments must be received on or before July 15, 2021.

ADDRESSES: The proposed settlement agreement is available for public inspection at https://cumulis.epa.gov/supercpad/cursites/csitinfo.cfm?id=0900238. Comments on the Settlement Agreement should be submitted in writing to Rebekah Reynolds at reynolds.rebekah@epa.gov. Comments should reference the Santa Clara Waste Water Treatment Plant Emergency Removal Site and the EPA Docket Number for the Settlement Agreement, EPA R9-2021-08. If for any reason you are not able to submit a comment by email, please contact Ms. Reynolds at (415) 972-3916 to make alternative arrangements for submitting your comment. EPA will post its response to any comments at https://response.epa.gov/site/site_profile.aspx?site_id=9634, EPA's website for the Site.

FOR FURTHER INFORMATION CONTACT: Rebekah Reynolds, Assistant Regional Counsel (ORC-3), Office of Regional Counsel, U.S. EPA Region IX, 75 Hawthorne Street, San Francisco, CA 94105; Email: reynolds.rebekah@epa.gov; Phone: (415) 972-3916.

SUPPLEMENTARY INFORMATION: Notice of this proposed administrative settlement is made in accordance with Section 122(i) of CERCLA. The Settlement Agreement concerns past response costs incurred by EPA to perform oversight at the Site. Under the Settlement Agreement, SCWW agrees to pay EPA $111,000 for past response costs. The Settlement Agreement includes a covenant not to sue SCWW for past response costs pursuant to Section 107(a) of CERCLA. EPA will consider all comments received on the Settlement Agreement in accordance with the DATES and ADDRESSES sections of this Notice and may modify or withdraw its consent to the Settlement Agreement if comments received disclose facts or considerations that indicate that the settlement is inappropriate, improper, or inadequate.

Dated: June 7, 2021.
Enrique Manzanilla,
Director, Superfund Division, EPA Region 9.

[FR Doc. 2021-12459 Filed 6-14-21; 8:45 am]

BILLING CODE 6560-50-P